DEPARTMENT OF HEALTH AND HUMAN SERVICES

Administration on Aging

Agency Information Collection Activities: Submission for Office of Management and Budget (OMB) Review; Comment Request; Extension and Revision of a Currently Approved Information Collection

AGENCY: Administration on Aging.

ACTION: Notice of revision and request for comments.

SUMMARY: The Administration on Aging is announcing an opportunity for public comment on the proposed request for an extension and revision to the currently approved information collection, as required by the Paperwork Reduction Act of 1995. This notice solicits comments on the requirements relating to the submission, by AoA grantees, of semiannual financial reports on all Title III grants. The information contained in the OMB 269 and its supplemental forms are reports currently being collected concurrently.

SUPPLEMENTARY INFORMATION: Title: Supplemental Form to the Financial Status Report for all AoA Title III Grantees OMB control number 0985-0004.

Description: Supplemental form to the Financial Status Report provide an understanding of how projects funds by the Older American Act are being administered by grantees, in conformance with legislative requirements, pertinent federal regulations, and other applicable instructions and guidelines issues by the Administration on Aging (AoA). This information will be used for federal oversight of Title III Projects.

Respondents: State Agencies on Aging.

Number of Respondents: 56.

Average Number of Responses per Respondent: 2.

Average Burden Hours: 1 hour per State Agency.

Comments to Federal Register Notice Published January 29, 2001, Page 8113 Attached Additional Information: Written comments and recommendations for the proposed information collection should be sent to the following address within 30 days of the publication of this notice: Office of Regulatory Affairs, Attn: Allison Herron Eydt, OMB Desk Officer, Room 10325, Washington, DC, 20503.

Norman L. Thompson,
Acting Principal Deputy Assistant Secretary for Aging.

Attachments: National Family Caregiver Support Program Data Collection Form, Respondents Comments and Standard Form 269 Instructions and Forms.

Comments to Federal Register Notice Published January 29, 2001, page 8113 and Consultation

AoA received 15 comments in response to its Federal Register announcement in connection with this request for OMB approval for the use of the Supplementary Statement to the SF 269. A matrix summarizing the issues addressed in these comments is available upon request, along with the actual letters and an updated version of the Supplemental Form, which eliminates the collection of Part E Statewide Expenditures for the National Family Caregiver Support Program. AoA's response to the issues raised by the respondents has been included below.

The Administration on Aging (AoA), in accordance with the Paperwork Reduction Act of 1965, requested approval from the Office of Management and Budget for an extension and revision to the currently approved AoA supplemental forms to the SF 269 to include a data collection requirement for the new Title III-E of the Older Americans Act (OAA), as amended in 2000.

The OAA, which was reauthorized on November 13, 2000, included an important new program, the National Family Caregiver Support Program (NFCSP). This program will help hundreds of thousands of family members who are struggling to care for their loved ones who are ill or have disabilities. The NFCSP is authorized at $125 million for grants to State agencies on aging in FY 2001. State agencies on aging, working with area agencies on aging and community and service provider organizations, will provide support services, including information and assistance to caregivers, counseling, support groups, respite and other home-and community-based services to families caring for frail older members. This program also recognizes the needs of grandparents who are caregivers of grandchildren, and other older individuals who are relative caregivers of children who are eighteen and under. Focusing on services for the caregiver rather than the care recipient is a shift for the OAA.

In order to get preliminary information that is necessary to collect on an interim basis that would document the need for a comprehensive caregiver delivery system, AoA proposed that states report expenditures, units of service, and people served (caregivers) for the following categories of service.

• Information

• Assistance

• Counseling, support groups and training

• Respite

• Supplemental services

This data would be sent to the AoA on a semi-annual basis.

AoA received 15 comments in response to the January 19, 2001 Federal Register announcement. The comments can be grouped into five categories: program income, performance measures, service definitions, client profile, use of SF 269, expenditure data and frequency of reporting (see attached summary table).

Specific comments included the following:

• Asked if cost sharing fees collected under the NFCSP could be used as match for the program;

• Suggested delaying the implementation barring the use of voluntary contributions as match;

• Recommended formal regulations process should be used to amend matching requirements and that states should be given ample time to make transition;

• Agreed (one respondent) with proposed changes to use of voluntary contributions as match;

• Concerned about lack of guidance on performance measures;

• Recommends collecting more useful information to meet the requirement to evaluate the effectiveness of the program;

• Concerned that service definitions have not been provided;

• Provided recommendations for some of the service definitions;

• Requested clarity on the target population—caregiver or care recipient;

• Concerned about lack of a uniform system for collecting information on people served;

• Concerned about reporting service data on SF 269;

• Recommended data be collected on a separate form until the NAPIS can be revised; and

• Indicated that using the SR 269 was administratively burdensome and duplicative of the NAPIS reporting.

Based on the comments received from the 15 respondents, the AoA proposes to amend its proposal published in the Federal Register, Vol. 66, No. 9 issued on Monday January 29, 2001 in two specific ways:

(1) on an interim basis, have a separate collection for the NFCSP; and

(2) reiterate the rationale for the remaining changes, which relate specifically to the recommendation of the Inspector General on grantees' use of and reporting for voluntary contributions.

Relative to the NFCSP, we propose to collect expenditure data, units of service and number of people served for the five categories of service (information, assistance, counseling, support groups and training, respite and supplemental services) as a temporary separate stand-alone report that can be sent to AoA once a year instead of bi-annually as required for the Supplemental to the SF 269. To facilitate submission of this data, AOA will provide states an electronic copy of the National Family Caregiver Support Program data collection form, hereafter referred to as the NFCSP data form, whose contents will be exactly the same as that previously contained in the addendum which had been proposed for inclusion on the SF 269 Supplement to collect Part E data. The NFCSP data form can be completed and returned to AOA at the same time all other program performance data is due.

We believe that this change addresses the concerns raised by the comments submitted in response to the Federal Register announcement. Because our decision to decouple the report from the Supplement to the SF 269 is responsive to these comments, we do not believe this change requires a new 60-day comment period. Additionally, this temporary reporting procedure will provide AoA with the opportunity to have more in-depth consultations with the aging network about how to incorporate the new requirements associated with Title III-E into the on-going data collection system.

With regard to reporting for voluntary contributions, in a report entitled, States Use of Voluntary Contributions Under Title III of the Older Americans Act (A-12-00-00002), the OIG recommended that AoA “submit revised regulations to make clear that voluntary contributions cannot be used as cost sharing or matching, but must instead be used to expand services.”

In our response, AoA agreed that the current regulations at 45 CFR 1321.67(b) and 1321.73 are inconsistent with section 307(a)(13)(C)(ii) of the Older Americans Act (OAA), as amended through December 31,1992. To be more specific, 45 CFR 1321.67(b) stipulated that the “contributions from supportive services and nutrition services be used to expand supportive services and nutrition services respectively” and 45 CFR 1321.73 required that “grant related income be used either in the matching or cost sharing alternative in 45 CFR 92.25(g)(2), or the additive alternative 45 CFR 92.25(g)(3) or a combination of the two.”

With the enactment of the FY 2000 amendments to the OAA, however, section 307(a)(13)(C)(ii) was replaced with the new section 315 (b)(4)(E). The new section requires area agencies on aging to ensure that service providers “use all collected contributions to expand the services for which the contributions were given.” This change, in our view, negated the need for revising the regulations relating to the former section, as it supercedes the previous language that was interpreted in the aforementioned regulations. The new statutory language is clear on its face. Regulatory language for the new statute as a whole, however, is in the process of being developed and as such will encompass the specific changes required for section 315 (b)(4)(E), thus negating the need for a separate regulation to announce the section changes.

AoA did, however, outline the following actions taken in the interim to inform states that voluntary contributions may not be used for cost sharing or matching and that voluntary contributions and any related interest earned are program income and must be used to expand services:

a. AoA regional administrators have provided the OIG report to the State Units on Aging so that the states may begin to make changes consistent with OIG recommendations.

b. AoA has revised the instructions for completing the supplemental statement to the SF 269 Financial Status Report to clarify that voluntary contributions are not to be reported as having fulfilled the state cost sharing or match requirements. (We also informed the OIG that the revised form was in the final stages of the OMB Paperwork Reduction Clearance Process, as addressed by this process.)

c. A Program Instruction will be prepared to accompany the revised form when it is implemented.

d. Revised instructions to the AoA Regional Offices and the Division of Grants Management for the review of the revised form are being prepared.

The remainder of the changes incorporated into the form were made to bring us into compliance with the Inspector General recommendations and statutory requirements.

National Family Caregiver Support Program Data Collection Form
[Part E (Statewide expenditures)]
| Expenditures | Units | People served
Information | $ |  |
Assistance | $ |  |
Counseling support groups training | $ |  |
Respite | $ |  |
Supplement services | $ |  |
Total | $ |  |

The Administration on Aging (AoA)

Additional Instructions for Completing Financial Status Report and Supplemental Form to SF-269

General Instructions

(1) All amounts reported should be rounded off to the nearest dollar; no cents should be reported.

(2) Leave blank items 10.c and 10.g since the Deductive and the Matching or Cost Sharing alternatives are not allowed.

(3) The amount reported in item 10.e should represent non-State, subrecipient contributions (i.e. those non-Federal resources contributed by AAA's, nutrition and service providers, etc.).

(4) The amount reported in item 10.h should represent those outlays made from State resources.

(5) Item 10.k should include the total Federal and State share of unliquidated obligations. These would include State funds awarded to AAA's, etc. which have not been earned/expended.

(6) Item 10.1, the State's share from 10.k above.

(7) Please note that program income used in accordance with the Additional Alternative (Item 10.r) is a CUMULATIVE AMOUNT and should not be included in the total outlays on line 10.a.

Since the current form does not have multiple columns for reporting more than one program function, State Agencies are required to break down the following items on the Supplemental Form to the SF 269.

ITEM 10.i Total recipient share of outlays.

Sections 304 and 308 of the Older Americans Act and Section 1321.47 of the Title III regulations require a match of 25 percent for State and Area Plan and 15 percent for all services. Breakdown Item 10.i, Column III, to identify the total Non-Federal amount expended for State and Area Plan Administration.

ITEM 10.o Total Federal funds authorized for this funding period.

The break down of Item 10.o should be the State's allocation of Federal funds for the following five (5) program functions:

1. State Administration/Administrative Activities.

Sections 308(a)(1) and (b)(2) provide the authority for States to expend the greatest of 5% of their total allotment or $500,000 for this function. Provide the total amount of Title III funds used for State Administration. This total must be broken down further to identify the amount of funds utilized from each program allotment.

2. Part B, Supportive Services, Part C1, Congregate Meals and Part C2, Home Delivered Meals

Sections 308(b)(4) and (5) provide the authority for States to transfer between Subparts C1 and C2 and between Parts B and C. Provide the amount utilized by the State after transfers for each of the three program allotments.

3. Long-Term Care Ombudsman.

Sections 304(d)(1)(B) and 307(a)(9) provides the authority to utilize Part B funds for Long-Term Care Ombudsman services. Provide the amount of Fiscal Year 2000, Title III-B funds utilized by the State for costs incurred by the State Agency in support of the Statewide Long-Term Care Ombudsman program. This amount should be excluded from Part B amount in item 2 above.

4. Part D, Disease Prevention and Health Promotion Services

Section 303(d) authorizes funds for grants under Part D. Provide the amount of Title III funds utilized for preventive health services.

5. Part E, National Family Caregiver Support Program

Sections 303(e)(1) and (2) authorizes funds for grants under Part E. Provide the amount of Title III funds utilized for caregiver services. Also provide statewide expenditures by service categories.

6. Area Plan Administration

Sections 304(d)(1)(A) and 308(a)(3) provide the authority for States to utilize a maximum of 10% of their total allotment for Area Plan Administration. This total must be broken down further to identify amount of funds utilized from each program allotment.

Financial Status Report AOA Supplemental Form to SF-269-Title III
STATE ________ | FY ______
DATE SUBMITTED ________ | REPORTING PERIOD ENDED ______
Item 10 i Column III, Total Recipient Share of Outlays which consist of outlays from:
| State | AAAs
ADMIN | $__________ | $__________
Title III
Part B | $__________ | $__________
LTCO (Part B) | $__________ | $__________
Part C-1 | $__________ | $__________
Part C-2 | $__________ | $__________
Part D | $__________ | $__________
Part E | $__________ | $__________
Total | $__________ | $__________
Item 10 j Column III, Federal Share of Net Outlays:
| State | AAAs
ADMIN | $__________ | $__________
Title III
Part B | $__________ | $__________
LTCO (Part B) | $__________ | $__________
Part C-1 | $__________ | $__________
Part C-2 | $__________ | $__________
Part D | $__________ | $__________
Part E | $__________ | $__________
Total | $__________ | $__________
Item 10 o Column III Total Federal Funds Authorized by AOA for the Federal FY ____ have been allocated by the State as follows (as applicable):
1. State administrative activities which consists of funds in the amount of $____ from the following:
Part B | $__________
Part C-1 | $__________
Part C-2 | $__________
Part D | $__________
Part E | $__________
2. Part B, Supportive Services | $__________
3. Part B, Long Term Care Ombudsman | $__________ | FY 2000 $__________
4. Part C-1, Congregate Meals | $__________
5. Part C-2, Home Delivered Meals | $__________
6. Part D, Preventive Health | $__________
7. Part E, Caregivers | $__________
Area Plan Administration which consists of funds from:
Part B | $__________
Part C-1 | $__________
Part C-2 | $__________
Part E | $__________
Item 10 p Column III, Unobligated Funds:
Part B | $__________ | Part D $__________
Part C-1 | $__________ | Part E $__________
Part C-2 | $__________
Item 10 r Column III, Disbursed Program Income using the additional alternative (cumulative amount):
Part B | $__________ | Part D $__________
Part C-1 | $__________ | Part E $__________
Part C-2 | $__________

[FR Doc. 01-14879 Filed 6-12-01; 8:45 am]

BILLING CODE 4154-01-P